DEPARTMENT OF TRANSPORTATION

Federal Railroad Administration

[Docket No. FRA-2010-0048]

Positive Train Control Safety Plan for the Southern California Regional Rail Authority

AGENCY: Federal Railroad Administration (FRA), Department of Transportation (DOT).

ACTION: Notice of availability and request for comments.

SUMMARY: This document provides the public notice that by a document dated September 19, 2015, the Southern California Regional Rail Authority (SCRRA) submitted to FRA its Positive Train Control Safety Plan (PTCSP) Version 1.7 for approval under the Federal railroad safety regulations in Title 49 Code of Federal Regulations (CFR) Part 236, Subpart I, Positive Train Control Systems. SCRRA asks FRA to approve its PTCSP and to provide PTC System Certification for SCRRA's implementation of its Interoperable-Electronic Train Management System (I-ETMS). In its PTCSP, SCRRA asserts that its I-ETMS is designed as a vital overlay PTC system in compliance with the PTCSP requirements. The PTCSP describes the SCRRA I-ETMS implementation and the associated I-ETMS safety processes; safety analyses; and test, validation, and verification processes used during development of I-ETMS. The PTCSP also contains SCRRA operational and support requirements and procedures.

SCCRA's PTCSP and the accompanying request for approval are available for review online at www.regulations.gov (Docket No. FRA-2010-0048) and in person at the U.S. Department of Transportation's (DOT) Docket Operations Facility, 1200 New Jersey Avenue SE., W12-140, Washington, DC 20590. The Docket Operations Facility is open from 9 a.m. to 5 p.m., Monday through Friday, except Federal Holidays.

Interested parties are invited to comment on the PTCSP by submitting written comments or data. During its review of the PTCSP, FRA will consider any comments or data submitted. However, FRA may not respond to any comment and, under 49 CFR 236.1009(d)(3), FRA maintains the authority to approve or disapprove the PTCSP at its sole discretion. FRA does not anticipate scheduling a public hearing regarding these proceedings because the facts do not appear to warrant a hearing. If any interested party desires an opportunity for oral comment, they should notify FRA in writing before the end of the comment period and specify the basis for their request.

DATES: FRA will consider communications received by January 6, 2016 before taking final action on the PTCSP. Comments received after that date will be considered as far as practicable.

ADDRESSES: All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See http://www.regulations.gov/#!privacyNotice for the privacy notice of regulations.gov.

FOR FURTHER INFORMATION CONTACT: Dr. Mark Hartong, PE, Senior Scientific Technical Advisor at (202) 493-1332, Mark.Hartong@dot.gov; or Mr. David Blackmore, Railroad Safety Program Manager for Advanced Technology at (312) 835-3903, David.Blackmore@dot.gov.

Issued in Washington, DC, on October 2, 2015.
Ron Hynes,
Director, Office of Technical Oversight.

[FR Doc. 2015-25573 Filed 10-7-15; 8:45 am]

BILLING CODE 4910-06-P